NATIONAL SCIENCE FOUNDATION

Research Performance Progress Report

AGENCY: National Science Foundation.

ACTION: Notice.

SUMMARY: Effective with the publication of this Notice in the Federal Register, agencies will be able to utilize the updated standardized Research Performance Progress Report (RPPR) format for both interim and final progress reporting.

FOR FURTHER INFORMATION CONTACT: To view the updated Standardized Research Performance Progress Report Format to be used for both Interim and Final Performance Progress Reporting, see: http://www.nsf.gov/bfa/dias/policy/rppr/index.jsp. For information on the RPPR, contact Jean Feldman, Head, Policy Office, Division of Institution & Award Support, National Science Foundation, 4201 Wilson Blvd., Arlington, VA, 22230, email: jfeldman@nsf.gov; telephone (703) 292-8243; FAX: (703) 292-9171.

SUPPLEMENTARY INFORMATION: The Research Performance Progress Report (RPPR) directly benefits award recipients by making it easier for them to administer Federal grant and cooperative agreement programs through standardization of the types of information required in performance reports—thereby reducing their administrative effort and costs. The RPPR also will make it easier to compare the outputs, outcomes, etc. of research and research-related programs across the government.

The RPPR resulted from an initiative of the Research Business Models (RBM), an Interagency Working Group of the Social, Behavioral & Economic Research Subcommittee of the Committee on Science (CoS), a committee of the National Science and Technology Council (NSTC). One of the RBM Subcommittee's priority areas is to create greater consistency in the administration of Federal research awards. Given the increasing complexity of interdisciplinary and interagency research, it is important for Federal agencies to manage awards in a similar fashion. The RPPR is to be used by agencies that support research and research-related activities for use in submission of progress reports. It is intended to replace other performance reporting formats currently in use by agencies. The RPPR does not change the performance reporting requirements specified in 2 CFR part 200.

On July 23, 2015 the National Science Foundation (NSF) submitted a request for public comment on an Updated Standardized Research Performance Progress Report Format to be used for Both Interim and Final Performance Progress Reporting in the Federal Register [80 FR 43802, July 23, 2015]. All comments were carefully considered in developing the final version of the RPPR. A table listing the comments and responses is posted on the NSF Web site at: http://www.nsf.gov/bfa/dias/policy/rppr/index.jsp. It should be noted that substantive changes were not made to the RPPR as a result of the comment process.

On behalf of the RBM, NSF has agreed to continue to serve as the sponsor of the updated version of this Federal-wide performance progress reporting format. The final version of the updated Standardized Research Performance Progress Report Format to be used for both Interim and Final Performance Progress Reporting incorporates the public comments mentioned above, and may be viewed at: http://www.nsf.gov/bfa/dias/policy/rppr/index.jsp. Each Federal research agency that supports research and research-related activities must post their policy or an implementation plan on the NSF and RBM Web sites within nine months after issuance of the Federal Register Notice. Each implementation plan will address whether the agency plans to implement the RPPR in paper or electronic format, and include an anticipated implementation date.

Dated: November 10, 2016.
Suzanne H. Plimpton,
Reports Clearance Officer, National Science Foundation.

[FR Doc. 2016-27505 Filed 11-15-16; 8:45 am]

BILLING CODE 7555-01-P